DEPARTMENT OF ENERGY

Federal Energy Regulatory Commission

[Project No. 13-030]

Green Island Power Authority; Albany Engineering Corporation; Notice of Application for Transfer of License and Soliciting Comments and Motions To Intervene

On August 14, 2014, Green Island Power Authority (transferor) and Albany Engineering Corporation (transferee) filed an application for a partial transfer of license of the Green Island Project located on the Hudson River in Saratoga and Rensselaer counties, New York.

The transferor and transferee seek Commission approval to partially transfer the license for the Green Island Project to add the transferee as a co-licensee.

Applicant Contacts: For Transferor: Kristin Swinton, Green Island Power Authority, 69 Hudson Avenue, Green Island, NY 12183, Phone: 518-271-9397, Email: kristin@greenislandpowerauthority.com. For Transferor and Transferee: William S. Huang and Rebecca J. Baldwin, Spiegel & McDiarmid LLP, 1875 Eye Street NW., Suite 700, Washington, DC 20006, Phone: 202-879-4000, Emails: william.huang@spiegelmcd.com and rebecca.baldwin@spiegelmcd.com. For Transferee: James A. Besha, P.E. and Wendy Jo Carey, P.E., Albany Engineering Corporation, 5 Washington Square, Albany, NY 12205, Phone: 518-456-7712, Emails: jim@albanyengineering.com and wendy@albanyengineering.com.

FERC Contact: Patricia W. Gillis, (202) 502-8735.

Deadline for filing comments and motions to intervene: 30 days from the issuance date of this notice, by the Commission. The Commission strongly encourages electronic filing. Please file motions to intervene and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13-030.

Dated: September 11, 2014.
Kimberly D. Bose,
Secretary.

[FR Doc. 2014-22281 Filed 9-17-14; 8:45 am]

BILLING CODE 6717-01-P